DEPARTMENT OF HOMELAND SECURITY

[Docket No. DHS-2009-0117]

The Critical Infrastructure Partnership Advisory Council

AGENCY: National Protection and Programs Directorate, DHS.

ACTION: Notice of Critical Infrastructure Partnership Advisory Council (CIPAC) meeting.

SUMMARY: The CIPAC will meet on October 7, 2009, in Washington, DC. The meeting will be open to the public.

DATES: The CIPAC will meet Wednesday, October 7, 2009, from 8 a.m. to 4 p.m. Please note that the meeting may adjourn early if the committee has completed its business. For additional information, please consult the CIPAC Web site, http://www.dhs.gov/cipac, or contact the CIPAC Secretariat by phone at 703-235-3999 or by e-mail at cipac@dhs.gov.

ADDRESSES: The meeting will be held in the Grand Ballroom of the J.W. Marriott, 1331 Pennsylvania Avenue, Washington, DC, 20004. While we will be unable to accommodate oral comments from the public, written comments may be sent to Nancy Wong, Department of Homeland Security, National Protection and Programs Directorate, Washington, DC, 20528. Comments must be identified by DHS-2009-0117 and may be submitted by one of the following methods:

• Federal eRulemaking Portal: http://www.regulations.gov. Follow the instructions for submitting comments.

• E-mail: cipac@dhs.gov. Include the docket number in the subject line of the message.

• Fax: 703-235-3055.

• Mail: Nancy Wong, Department of Homeland Security, National Protection and Programs Directorate, Washington, DC 20528.

Instructions: All submissions received must include the words “Department of Homeland Security” and the docket number for this action. Comments received will be posted without alteration at http://www.regulations.gov, including any personal information provided.

Docket: For access to the docket to read background documents or comments received by the CIPAC, go to http://www.regulations.gov.

FOR FURTHER INFORMATION CONTACT: Nancy Wong, CIPAC Designated Federal Official, Department of Homeland Security, Washington, DC 20528; telephone 703-235-3999.

SUPPLEMENTARY INFORMATION: CIPAC represents a partnership between government and critical infrastructure and key resources (CIKR) owners and operators and provides a forum in which they can engage in a broad spectrum of activities to support and coordinate critical infrastructure protection.

The CIPAC will meet to discuss issues relevant to the protection of critical infrastructure. The October 7, 2009, meeting will include panel discussions between participating CIKR Sectors regarding information sharing and cybersecurity.

Procedural

While this meeting is open to the public, participation in the CIPAC deliberations is limited to committee members, Department of Homeland Security officials, and persons invited to attend the meeting for special presentations.

Information on Services for Individuals With Disabilities

For information on facilities or services for individuals with disabilities or to request special assistance at the meeting, contact the CIPAC Secretariat at 703-235-3999 as soon as possible.

Signed: September 17, 2009.
Nancy Wong,
Designated Federal Official for the CIPAC.

[FR Doc. E9-23243 Filed 9-24-09; 8:45 am]

BILLING CODE P